DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by December 26, 2003. A copy of the information collection plans may be obtained by calling the SAMHSA Reports Clearance Officer on (301) 443-7978.

Title: SAMHSA Application for Peer Grant Reviewers.

OMB Number: 0930-New.

Frequency: On-occasion.

Affected public: Individuals or households.

Section 501(h) of the Public Health Service (PHS) Act [42 U.S.C. 290aa] directs the Administrator of the Substance Abuse and Mental Health Services Administration (SAMHSA) to establish such peer review groups as are needed to carry out the requirements of Title V of the PHS Act. SAMHSA administers a large discretionary grants program under authorization of Title V, and for many years SAMHSA has funded grants to provide prevention and treatment services related to substance abuse and mental health.

SAMHSA efforts to make improvements in the grants process have been shown by the restructuring of discretionary award announcements. In support of these efforts, SAMHSA desires to expand the types of reviewers it uses on these grant review committees. To accomplish that end, SAMHSA has determined that it is important to proactively seek the inclusion of new and qualified representatives on its peer review groups, and accordingly SAMHSA has developed an application form for use by individuals who wish to apply to serve as peer reviewers.

The application form has been developed to capture the essential information about the individual applicants. Although consideration was given to requesting a resume from interested individuals, it is essential to have specific information from all applicants about their qualifications; the most consistent method to accomplish this is completion of a standard form by all interested persons. SAMHSA will use the information about knowledge, education and experience provided on the applications to identify appropriate peer grant reviewers. Depending on their experience and qualifications, applicants may be invited to serve as either grant reviewers or review group chairpersons.

The following table shows the response burden estimated for the first year.

Number of respondents | Responses/respondent | Burden/Response, (hrs) | Total burden hours
500 | 1 | 1.5 | 750

Emergency approval is being requested because of the importance of including representatives of faith-based and community organizations as peer reviewers of grant applications at the earliest possible time in the FY 2004 review cycle. Upon receipt of OMB approval for this submission, SAMHSA will place this form on its Web site at http://www.samhsa.gov and will widely publicize its availability.

Written comments and recommendations concerning the proposed information collection should be sent within two weeks of this notice to: Lauren Wittenberg, Human Resources and Housing Branch, Office of Management and Budget, New Executive Office Building, Room 10235, Washington, DC 20503; due to potential delays in OMB's receipt and processing of mail sent through the U.S. Postal Service, respondents are encouraged to submit comments by fax to: 202-395-6974.

Dated: December 8, 2003.
Anna Marsh,
Acting Executive Officer, SAMHSA.

[FR Doc. 03-30784 Filed 12-11-03; 8:45 am]

BILLING CODE 4162-20-P